DEPARTMENT OF EDUCATION

[Docket ID ED-2018-FSA-0063]

Privacy Act of 1974; Matching Program

AGENCY: Department of Education.

ACTION: Notice of a new matching program.

SUMMARY: Pursuant to the Privacy Act of 1974, as amended by the Computer Matching and Privacy Protection Act of 1988 and the Computer Matching and Privacy Protections Amendments of 1990 (Privacy Act), and Office of Management and Budget (OMB) guidance on the conduct of matching programs, notice is hereby given of the re-establishment of the matching program between the Department of Education (ED or Department) (recipient agency) and the Social Security Administration (SSA) (source agency).

DATES: The period of this matching program is estimated to cover the 18-month period from October 10, 2018 through April 9, 2020. However, the computer matching agreement (CMA) will become applicable at the later of the following two dates: October 10, 2018 or 30 days after the publication of this notice, on September 11, 2018, unless comments have been received from interested members of the public requiring modification and republication of the notice. The matching program will continue for 18 months after the applicable date and may be extended for an additional 12 months, if the respective agency Data Integrity Boards (DIBs) determine that the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this new matching program, address them to: Marya Dennis, Management and Program Analyst, U.S. Department of Education, Federal Student Aid, Union Center Plaza, 830 First Street NE, Washington, DC 20202-5454. Telephone: (202) 377-3385.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Marya Dennis, Management and Program Analyst, U.S. Department of Education, Federal Student Aid, Union Center Plaza, 830 First Street NE, Washington, DC 20202-5454. Telephone: (202) 377-3385.

SUPPLEMENTARY INFORMATION: In accordance with the Privacy Act; OMB Final Guidance Interpreting the Provisions of Public Law 100-503, the Computer Matching and Privacy Protection Act of 1988, published in the Federal Register on June 19, 1989 (54 FR 25818); and OMB Circular No. A-108, notice is hereby provided of the re-establishment of the matching program between SSA and ED to assist ED in the verification of Social Security numbers (SSNs) and confirmation of citizenship status as recorded in SSA records in order to verify the eligibility of applicants for student financial assistance under title IV of the Higher Education Act of 1965, as amended (HEA).

Participating Agencies

ED and SSA.

Authority for Conducting the Matching Program

ED is authorized to participate in the matching program under sections 428B(f) (20 U.S.C. 1078-2(f)), 483(a)(12) (20 U.S.C. 1090(a)(12)), 484(g) (20 U.S.C. 1091(g)), and 484(p) (20 U.S.C. 1091(p)) of the HEA.

SSA is authorized to participate in the matching program under section 1106 of the Social Security Act (42 U.S.C. 1306)) and the regulations promulgated pursuant to that section (20 CFR part 401).

Purpose(s)

The purpose of this matching program between ED and SSA is to assist the Secretary of Education with verification of immigration status and SSNs under 20 U.S.C. 1091(g) and (p). SSA will verify the issuance of an SSN and a date of death (if applicable) to students and the parent(s) of dependent students, and will confirm the citizenship status of those students applying for financial assistance programs authorized under title IV of the HEA. Verification of this information by SSA will help ED satisfy its obligation to ensure that individuals applying for financial assistance meet eligibility requirements of the HEA.

Verification by this matching program effectuates the purpose of the HEA because it provides an efficient and comprehensive method of verifying the accuracy of each individual's SSN, date of death if applicable and claim to a citizenship status that permits that individual to qualify for title IV, HEA assistance.

Categories of Individuals

ED's systems of records involved in the matching program maintain information on individuals who apply for Federal student financial assistance through the Free Application for Federal Student Aid (FAFSA) and on individuals who apply to receive Person Authentication Service (PAS) Credentials, a user ID and password to electronically access their FAFSA record.

SSA's system of records involved in the matching program maintains records about each individual who has applied for, and obtained an, SSN.

Categories of Records

ED's systems of records involved in the matching program contain (1) the information to determine an applicant's eligibility for Federal student financial assistance, and (2) the applicant's information to receive PAS Credentials, a user ID and password. The specific data elements that ED will transmit to SSA are: Students' and parent(s) of dependent students' SSN, first name, last name, and date of birth (DOB).

SSA's system of records involved in the matching program maintains information required to apply for, and obtain, an SSN. The specific data elements that SSA will send back to ED include: SSN, first name, last name, DOB, and an SSA verification code on each record to indicate the match results. The verification codes are: 1 = No match on SSN, 3 = SSN match, name match, no match on DOB, 5 = SSN match, no match on name, DOB not checked, 6 = SSN not verified, Blank = SSN match, name match, DOB match. SSA will also send a date of death if one is present on SSA's database for the record. Records returned from SSA also will include a citizenship status code as follows: A = U.S. citizen, B = legal alien, eligible to work, C = legal alien, not eligible to work, D = other, E = alien, student restricted, F = conditionally legalized alien, * = foreign born, Blank = domestic born (U.S. citizen), N = unable to verify citizenship due to no match on name, DOB, or SSN.

System(s) of Records

There are two ED systems of records involved in this matching program. The first is entitled “Federal Student Aid Application File” (18-11-01) last published on August 3, 2011 (76 FR 46774), and the second is entitled “Person Authentication Service (PAS)” (18-11-12) published on March 20, 2015 (80 FR 14981).

SSA's system of records involved in this matching program is entitled, “Master Files of Social Security Number (SSN) Holders and SSN Applications” (Enumeration System) 60-0058, last published in full on December 29, 2010 (75 FR 82121), modified on July 5, 2013 (78 FR 40542), February 13, 2014 (79 FR 8780), and July 3, 2018 (83 FR 31250) and (83 FR 31251).

Accessible Format: Individuals with disabilities can obtain this document in an accessible format (e.g., Braille, large print, audiotape, or compact disc) by contacting the contact person listed in the preceding paragraph.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at this site. You may also access documents of the Department published in the Federal Register by using the article search feature at: www.federalregister.gov. Specifically, through the advanced search feature at this site, you can limit your search to documents published by the Department.

Dated: September 6, 2018.
James F. Manning,
Acting Chief Operating Officer, Federal Student Aid.

[FR Doc. 2018-19738 Filed 9-10-18; 8:45 am]

BILLING CODE 4000-01-P